DEPARTMENT OF HOMELAND SECURITY

Coast Guard

[USCG-2009-0661]

National Offshore Safety Advisory Committee; Vacancies

AGENCY: Coast Guard, DHS.

ACTION: Request for applications.

SUMMARY: The Coast Guard seeks applications for membership on the National Offshore Safety Advisory Committee (NOSAC). NOSAC provides advice and makes recommendations to the Coast Guard on matters affecting the offshore industry.

DATES: Application forms should reach the Coast Guard on or before November 30, 2009.

ADDRESSES: A copy of the application form, as well as this notice, is available in our online docket, USCG-2008-0799 at http://www.regulations.gov and at the Coast Guard's Advisory Committee homeport Web page at: https://homeport.uscg.mil/nosac. You may request an application form by writing Mr. James Magill, Assistant Designated Federal Officer of NOSAC, Commandant (CG-5222), ATTN: Vessel and Facility Operations Standards, U.S. Coast Guard, 2100 Second Street, SW., STOP 7126, Washington, DC 20593-7126; by calling 202-372-1414; or by faxing 202-372-1926. Send your completed application to the Assistant Designated Federal Officer at the street address above.

FOR FURTHER INFORMATION CONTACT: Commander Patrick W. Clark, Designated Federal Officer (DSO) of NOSAC, or James M. Magill, Assistant Designated Federal Officer, telephone 202-372-1414, fax 202-372-1926.

SUPPLEMENTARY INFORMATION: NOSAC is a Federal advisory committee established under the provisions of the Federal Advisory Committee Act (FACA), (codified at 5 U.S.C.). It consists of 15 regular members who have particular knowledge and experience regarding offshore technology, equipment, safety and training, as well as environmental expertise in the exploration or recovery of offshore mineral resources. It provides advice and makes recommendations to the Assistant Commandant for Marine Safety, Security and Stewardship regarding safety, security and rulemaking matters relating to the offshore mineral and energy industries. This advice assists the Coast Guard in developing policy and regulations and formulating the positions of the United States in advance of meetings of the International Maritime Organization.

NOSAC meets approximately twice a year, with one of these meetings being held at Coast Guard Headquarters in Washington, DC. It may also meet for extraordinary purposes. Its subcommittees and working groups may meet to consider specific issues or topics as required.

We will consider applications for five positions. These positions will begin in January 2010. Applications should reach the Coast Guard by November 30, 2009. If we do not receive sufficient qualified applicants by the deadline we may consider applications received later if they arrive within a reasonable time before we make our recommendations to the Secretary of Homeland Security.

To be eligible, applicants should have experience in one of the following categories: (1) Offshore operations, (2) diving services associated with offshore activities, (3) general public, (4) pipelaying services, or (5) deepwater ports. Please state on the application form which of the five categories you are applying for. Each member normally serves a term of 3 years or until a replacement is appointed. A few members may serve consecutive terms. All members serve at their own expense and receive no salary, reimbursement of travel expenses, or other compensation from the Federal Government.

In support of the Coast Guard policy on gender and ethnic nondiscrimination, we encourage qualified men and women and members of all racial and ethnic groups to apply. The Coast Guard values diversity; all the different characteristics and attributes of persons that enhance the mission of the Coast Guard.

If you are interested in applying to become a member of NOSAC, send a completed application form to Mr. James Magill, Assistant Designated Federal Officer of NOSAC, Commandant (CG-5222), Attn: Vessel and Facility Operations Standards, U.S. Coast Guard, 2100 Second Street, SW., STOP 7126, Washington, DC 20593-7126; by calling 202-372-1414; or by faxing 202-372-1926. Send the application form in time for it to be received by the Assistant DFO on or before November 30, 2009.

A copy of the application form is available in the docket for this notice. To visit our online docket, go to http://www.regulations.gov, enter the docket number for this notice (USCG-2009-0661) in the Search box, and click “Go”.

Dated: July 14, 2009.
Howard L. Hime,
Acting Director of Commercial Regulations and Standards, Assistant Commandant for Marine Safety, Security and Stewardship.

[FR Doc. E9-17288 Filed 7-20-09; 8:45 am]

BILLING CODE 4910-15-P